DEPARTMENT OF THE INTERIOR

National Park Service

[NPS-WASO-NAGPRA-NPS0024981; PPWOCRADN0-PCU00RP14.R50000]

Notice of Inventory Completion: U.S. Fish and Wildlife Service, Alaska Region, Anchorage, AK

AGENCY: National Park Service, Interior.

ACTION: Notice.

SUMMARY: The U.S. Fish and Wildlife Service, Alaska Region (Alaska Region USFWS) has completed an inventory of human remains and associated funerary objects, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains and associated funerary objects should submit a written request to the Alaska Region USFWS. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Alaska Region USFWS at the address in this notice by March 26, 2018.

ADDRESSES: Edward DeCleva, Regional Historic Preservation Officer, U.S. Fish and Wildlife Service, Alaska Region, 1011 East Tudor Road MS-235, Anchorage, AK 99503, telephone (907) 786-3399, email edward_decleva@fws.gov.

SUPPLEMENTARY INFORMATION: Notice is here given in accordance with the Native American Graves Protection and Repatriation Act (NAGPRA), 25 U.S.C. 3003, of the completion of an inventory of human remains and associated funerary objects under the control of the Alaska Region USFWS, Anchorage, AK. The human remains and associated funerary objects were removed from Amchitka Island and Adak Island, Aleutians West Census Area, AK.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Alaska Region USFWS professional staff in consultation with representatives of the Native Village of Atka, the Atxam Corporation, and the Aleut Corporation.

History and Description of the Remains

In 1944, human remains representing, at minimum, one individual were removed from an unknown site on Amchitka Island, Aleutians West Census Area, AK, by Fred Swearingen, who made surface collections from the midden site. The human remains were transferred to the University of Washington, Burke Museum in 1945, and then to the Alaska Region USFWS headquarters in 2016. The human remains include 21 vertebrae, three ribs, sternum, sacrum, one patella, and hand and foot bones, and represent one adult male. No known individual was identified. The one associated funerary object is an unmodified mammal bone.

There are no diagnostics artifacts or radiocarbon dates associated with the human remains. The consensus among anthropologists is that midden sites began to appear around 3,000 years ago. The human remains were found on the surface of the midden and likely date to the Late Prehistoric period, possibly no earlier than 500—1000 years B.P.

On April 15th, 1944, human remains representing, at minimum, one individual were removed from Adak Island, Aleutians West Census Area, AK, by Harley Goodrich while operating a bulldozer. The human remains include one cranium, discovered at a depth of approximately 25 feet. The human remains were transferred to the University of Washington, Burke Museum on August 1, 1944. A physical anthropologist at the Burke Museum determined that the human remains are from an adult female. No known individuals were identified. No known funerary objects were present.

The present-day Aleut cultural affiliation with prehistoric Aleut populations is evident in the human remains. The context and physical traits are consistent with those expected for pre-contact Aleut populations.

Determinations Made by the Alaska Region USFWS

Officials of the Alaska Region USFWS have determined that:

• Pursuant to 25 U.S.C. 3001(9), the human remains described in this notice represent the physical remains of two individuals of Native American ancestry.

• Pursuant to 25 U.S.C. 3001(3)(A), the one object described in this notice is reasonably believed to have been placed with or near individual human remains at the time of death or later as part of the death rite or ceremony.

• Pursuant to 25 U.S.C. 3001(2), there is a relationship of shared group identity that can be reasonably traced between the Native American human remains and the Native Village of Atka.

Additional Requestors and Disposition

Lineal descendants or representatives of any Indian Tribe or Native Hawaiian organization not identified in this notice that wish to request transfer of control of these human remains and associated funerary objects should submit a written request with information in support of the request to Edward DeCleva, Regional Historic Preservation Officer, U.S. Fish and Wildlife Service, Alaska Region, 1011 East Tudor Road MS-235, Anchorage, AK 99503, telephone (907) 786-3399, email edward_decleva@fws.gov, by March 26, 2018. After that date, if no additional requestors have come forward, transfer of control of the human remains and associated funerary objects to the Native Village of Atka may proceed.

The Alaska Region USFWS is responsible for notifying the Native Village of Atka, the Atxam Corporation, and the Aleut Corporation that this notice has been published.

Dated: February 2, 2018.
Melanie O'Brien,
Manager, National NAGPRA Program.

[FR Doc. 2018-03634 Filed 2-21-18; 8:45 am]

BILLING CODE 4312-52-P